DEPARTMENT OF STATE

[Public Notice 4650]

Bureau of Democracy, Human Rights and Labor Request for Grant Proposals: Human Rights and Democratization Initiatives in Countries With Significant Muslim Populations

SUMMARY: The Office for the Promotion of Human Rights and Democracy of the Bureau of Democracy, Human Rights and Labor (DRL/PHD) announces an open competition for assistance awards. Organizations may submit grant proposals that focus on promotion of human rights, political participation, press freedom, rule of law, women's rights and civil society in countries with significant Muslim populations. The Bureau is particularly interested in proposals that focus on these issues in Pakistan, Central Asia, the Middle East and North Africa or Southeast Asia; however, DRL will consider proposals for projects in other countries/regions with significant Muslim populations.

Awards are contingent upon the availability of Fiscal Year 2004 funds. Up to $9,000,000 may be available under the Economic Support Fund for projects that address Bureau objectives in countries in the Muslim World. The Bureau anticipates awarding between 10-20 grants in amounts of $500,000-$1,000,000.

Pakistan

The Bureau of Democracy, Human Rights and Labor is interested in supporting projects in Pakistan which focus on the following activities:

1. Train and strengthen political parties;

2. Support Pakistan's judiciary, overall legal system and government institutions, including programs that promote efficiency, transparency and rule of law;

3. Promote press freedoms and train journalists in standards of fair and balanced reporting; build the capacity of media organizations to operate independently;

4. Strengthen institutions to promote the rule of law;

5. Build the capacity of civil society organizations, such as NGOs and professional associations;

6. Promote overall respect for human rights by both the government and civil society;

7. Encourage good governance, transparency and accountability.

Up to $4,000,000 of the overall $9,000,000 referred to in this solicitation may be available for projects in Pakistan. The Bureau anticipates awarding between 4-8 grants in amounts of $500,000-$1,000,000.

Central Asia

The Bureau of Democracy, Human Rights and Labor is interested in supporting projects in Central Asia (including Kazakhstan, Kyrgyzstan, Tajikistan, Turkmenistan and Uzbekistan) which focus on the following activities:

1. Promote free and fair elections, with emphasis on support for democratically-oriented political parties as well as improvement of electoral processes and legislation;

2. Promote respect for human rights, especially advocacy training, monitoring and reporting on law enforcement abuses and combating law enforcement abuses;

3. Promote rule of law, with an emphasis on support for an independent judiciary, legal defense assistance and defense lawyers;

4. Strengthen press freedoms and build capacity of independent media;

5. Build the capacity of civil society organizations.

The Middle East, North Africa and Iran

The Bureau of Democracy, Human Rights and Labor is interested in supporting projects in the Middle East, North Africa and Iran, which focus on the following activities:

1. Support civil society, with emphasis on political actors and advocacy groups that involve women;

2. Increase access to information through freedom of the press, freedom of speech, and enhanced public awareness of human rights and democracy issues;

3. Promote democratic elections by strengthening institutional capacity, training political parties, NGOs and newly elected officials, and raising civic awareness;

4. Promote rule of law with an emphasis on civil liberties, government accountability, and administration of justice;

Southeast Asia

The Bureau of Democracy, Human Rights and Labor is interested in supporting projects in countries in Southeast Asia with significant Muslim populations which focus on the following activities:

1. Empower Muslim women, including projects that promote capacity building and/or networks of women or women's organizations, especially as they relate to human rights;

2. Address the problem of disenfranchised youth and the need to reach out to this group to prevent growth of extremism;

3. Promote political reform programs that would entail support for conducting free and fair elections, issues of good governance and corruption;

4. Promote independent media and access to a diversity of sources of information;

5. Promote the compatibility of democracy with Islam and increased political engagement with moderate Muslims;

6. Promote ethnic and religious tolerance initiatives to resolve conflict and disputes.

Background

DRL/PHD supports innovative, cutting-edge programs which uphold democratic principles, support and strengthen democratic institutions, promote human rights, and build civil society in countries and regions of the world that are geo-strategically important to the U.S. DRL/PHD funds projects that have an immediate impact but that also have potential for continued funding beyond DRL/PHD resources. Projects must not duplicate or simply add to efforts by other entities.

Project Criteria

• Project implementation should begin no earlier than September 30, 2004.

• Projects should not exceed two years in duration. Shorter projects with more immediate outcomes may receive preference.

• Project activity should take place abroad. U.S.-based or exchange projects are strongly discouraged.

• Projects that have a strong academic or research focus will not be highly considered. DRL will not fund health, technology, environmental, or scientific projects unless they have an explicit democracy, human rights or rule of law component.

• Projects should include detailed plans for evaluation and assessment of impact; plans may utilize qualitative and/or quantitative methods and should address both project outputs and outcomes.

• Projects should include a follow-on plan that extends beyond the grant period ensuring that Bureau-supported programs are not isolated events.

In order to avoid the duplication of activities and programs, proposals should also indicate knowledge of similar projects being conducted in the regions and how the submitted proposal will complement them.

Applicant/Organization Criteria

Organizations applying for a grant should meet the following criteria:

• Be a U.S. non-profit organization meeting the provisions described in Internal Revenue Code section 26 U.S.C. 501(c)(3).

• Have demonstrated experience administering successful projects in the country/region in which it is proposing to administer a project.

• Have existing, or the capacity to develop, active partnerships with in-country organization(s).

• Organizations that have not previously received and successfully administered U.S. government grant funds will be subject to additional scrutiny before an award can be granted.

Note: Organizations are welcome to submit more than one proposal, but should know that DRL wishes to reach out to as many different organizations as possible with its limited funds.

Budget Guidelines

Please refer to the Proposal Submission Instructions (PSI) for complete budget guidelines and formatting instructions.

Deadline for Proposals

All proposals must be received at the Bureau of Democracy, Human Rights and Labor by 5 p.m. eastern standard time (e.s.t.) on Wednesday, March 31, 2004. Please refer to the PSI for specific delivery instructions.

Review Process

The Bureau will acknowledge receipt of all proposals and will review them for eligibility. Proposals will be deemed ineligible if they do not fully adhere to the guidelines stated herein and in the PSI. Eligible proposals will be subject to compliance with Federal and Bureau regulations and guidelines and forwarded to Bureau grant panels for advisory review. Proposals may also be reviewed by the Office of the Legal Adviser or by other Department elements.

Review Criteria

Eligible applications will be competitively reviewed according to the criteria stated below. Further explanation of these criteria is included in the PSI. These criteria are not rank-ordered and all carry equal weight in the proposal evaluation: Quality of the program idea; program planning and ability to achieve program objectives; multiplier effect/impact; program evaluation plan; institution's record/ability/capacity; cost-effectiveness.

FOR FURTHER INFORMATION CONTACT: The Office for the Promotion of Human Rights and Democracy of the Bureau of Democracy, Human Rights and Labor (DRL/PHD). Please specify Karen Gilbride 202-647-1458 on all inquiries and correspondence.

Please read the complete Federal Register announcement or http://www.fedgrants.gov announcement before sending inquiries or submitting proposals. Once the RFP deadline has passed, Bureau staff may not discuss this competition with applicants until the proposal review process has been completed.

To Download a Solicitation Package via Internet

The Solicitation Package consists of this RFP plus the Proposal Submission Instructions (PSI). The PSI contains detailed award criteria, specific budget instructions, and standard guidelines for proposal preparation. The PSI may be downloaded from the HRDF section on the Bureau's Web site at http://www.state.gov/g/drl/.

Notice

The terms and conditions published in this RFP are binding and may not be modified by any Bureau representative. Explanatory information provided by the Bureau that contradicts published language will not be binding. Issuance of the RFP does not constitute an award commitment on the part of the government. The Bureau reserves the right to reduce, revise, or increase proposal budgets in accordance with the needs of the program and the availability of funds. Awards made will be subject to periodic reporting and evaluation requirements. Final technical authority for assistance awards resides with the Office of Acquisition Management's Grants Officer.

Notification

Final awards cannot be made until funds have been appropriated by Congress, allocated and committed through internal Bureau procedures.

Dated: March 5, 2004.
Lorne W. Craner,
Assistant Secretary for Democracy, Human Rights and Labor, Department of State.

[FR Doc. 04-5503 Filed 3-10-04; 8:45 am]

BILLING CODE 4710-18-P